DEPARTMENT OF HOUSING AND URBAN DEVELOPMENT

[Docket No. FR-6418-N-02]

Announcement of Funding Awards

AGENCY: Office of Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following program(s): Authority to Accept Unsolicited Proposals for Research Partnerships, Impact Evaluation of the Emergency Rental Assistance (ERA), FY22 HUDRD CDBG Disaster Recovery Outcomes of Renter Households, FY22 HUDRD—Exploring the Feasibility of Linking Eviction Records to Administrative Databases for HUD's Housing Choice Voucher Program, FY21 Eviction Protection Grant Program Rounds 1 and 2, FY21 HBCU Research Center of Excellence, FY22 HUDRD-HBCU Research Center of Excellence, FY22 HUDRD—Wildfire Recovery and Resilience, FY22 HUDRD—Qualitative Data Collection for Cohort 2 MTW Expansion—Rent Reform Experiment, FY22 Indian Community Development Block Grant (ICDBG and FY22 Indian Community Development Block Grant (ICDBG)—Imminent Threat (IT), FY22 Foster Youth to Independence Competitive (FYI Competitive), FY22 Choice Neighborhoods Planning Grants, Housing Opportunities for Persons with HIV/AIDS (HOPWA), Rural Capacity Building for Community Development and Affordable Housing Grants, Veterans Housing Rehabilitation and Modification Pilot Program, and FY 2022 Comprehensive Housing Counseling Grant Program.

FOR ADDITIONAL INFORMATION CONTACT: Dorthera Yorkshire, Director, Grants Management and Oversight, Office of the Chief Financial Officer (Systems), telephone (202) 402-4336; (this is not a toll-free number) email; AskGMO@hud.gov or the contact person listed in each appendix. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD posted the Authority to Accept Unsolicited Proposals for Research Partnerships NOTICE on grants.gov November 2, 2021, (FR-6500-N-USP). The notice closed on June 30, 2022. HUD rated and selected for funding based on selection criteria contained in the NOTICE. This notice awarded $2,212,251 to 7 recipients to allow greater flexibility in addressing evidence gaps concerning strategic policy questions and to better utilize external expertise in evaluating effectiveness of programs affecting residents of urban, suburban, rural, and tribal areas, as well as local innovations in the delivery of these programs.

HUD posted the Impact Evaluation of the Emergency Rental Assistance (ERA) Program NOFO on grants.gov May 26, 2022, (FR-6600-N-83). The competition closed on August 25, 2022. HUD rated and selected for funding based on selection criteria contained in the NOFO. This competition awarded $2,000,000 to 3 recipients to fund rigorous evaluations of the impact of the Emergency Rental Assistance (ERA) Program on housing stability outcomes. HUD's primary outcome of interest is eviction, but applicants can propose other housing stability measures. Congress established the ERA program to provide emergency assistance for rental, utility, and other related expenses to households at risk of losing their rental units due to the COVID-19 pandemic.

HUD posted the Authority to FY22 HUDRD CDBG Disaster Recovery Outcomes of Renter Households NOFO on grants.gov May 27, 2022 (FR-6600-N-29A). The competition closed on July 11, 2022. HUD rated and selected for funding based on selection criteria contained in the NOFO. This competition awarded $1,370,000 to 2 recipients to improve disaster recovery effectiveness for renter households by examining the disaster recovery outcomes of renter households and rental housing stock in places that received Community Development Block Grant-Disaster Recovery grants (CDBG-DR).

HUD posted the Authority to FY22 HUDRD-Exploring the Feasibility of Linking Eviction Records to Administrative Databases for HUD's Housing Choice Voucher Program NOFO on grants.gov May 25, 2022, (FR-6600-N-29E). The competition closed on July 14, 2022. HUD rated and selected for funding based on selection criteria contained in the NOFO. This competition awarded $500,000 to 2 recipients to link data on court-ordered evictions to HUD administrative data on tenants in the HCV program collected in the form HUD-50058.[13] Quantifying the incidence of evictions among households receiving and/or previously receiving assistance from the HCV program.

HUD posted the FY21 Eviction Protection Grant Program Rounds 1 and 2 NOFO on grants.gov July 20, 2021, (FR-6500-N-79). The competition closed on September 10, 2021. HUD rated and selected for funding based on selection criteria contained in the NOFO. This competition awarded $40,000,000 (Round 1; $20,000,000 and round 2; $20,000,000) to 21 (Round 1; 10 and Round 2; 11) recipients to support experienced legal service providers, not limited to legal service corporations, in providing legal assistance at no cost to low-income tenants at risk of or subject to eviction. HUD's Office of Policy Development and Research is making available grant funds to non-profit or governmental entities to provide services in areas with high rates of evictions or prospective evictions, including rural areas.

HUD posted the FY21 HBCU Research Center of Excellence NOFO on grants.gov April 29, 2021, (FR-6400-N-61). The competition closed on July 29, 2021. HUD rated and selected for funding based on selection criteria contained in the NOFO. This competition awarded $5,500,000 to 2 recipients to conduct research projects on multiple topics of strategic interest to the Department of Housing and Urban Development enabling the establishment of one, or up to two Historically Black College and Universities Center(s) of Excellence to (COE). The research projects are intended to initiate an ongoing series of reports focused on housing, community, and economic development in underserved communities that can serve as national, local, or regional benchmarks and assist in support of COE(s) that expand the housing and community development research efforts at Historically Black Colleges and Universities (HBCU).

HUD posted the FY22 HUDRD—HBCU Research Center of Excellence NOFO on grants.gov August 29, 2022, (FR-6600-N-29F). The competition closed on December 22, 2022. HUD rated and selected for funding based on selection criteria contained in the NOFO. This competition awarded $5,500,000 to 2 recipients to conduct research projects on multiple topics of strategic interest to the Department of Housing and Urban Development and provide additional funding to a COE that received partial funding under the previous COE NOFO.

HUD posted the FY22 HUDRD—Wildfire Recovery and Resilience NOFO on grants.gov May 18, 2022, (FR-6600-N-29B). The competition closed on July 19,2022. HUD rated and selected for funding based on selection criteria contained in the NOFO. This competition awarded $597,154 to 1 recipient to increase the capacity of communities affected by wildfire to use disaster assistance to enhance resilience to wildfire, especially the resilience of low- and moderate-income persons and communities.

HUD posted the FY22 HUDRD—Qualitative Data Collection for Cohort 2 MTW Expansion-Rent Reform Experiment NOFO on grants.gov May 24, 2022, (FR-6600-N-29D). The competition closed on July 7, 2022. HUD rated and selected for funding based on selection criteria contained in the NOFO. This competition awarded $998,828 to 1 recipient to support qualitative research focused on the Moving to Work (MTW) Stepped and Tiered Rent Demonstration (STRD). In the Stepped and Tiered Rent Demonstration (STRD), ten public housing agencies (PHAs) will implement alternative rents that might be easier to administer and might incentivize assisted households to increase their earnings.

HUD posted FY22 Indian Community Development Block Grant (ICDBG) and FY22 Indian Community Development Block Grant (ICDBG)—Imminent Threat (IT) Program on grants.gov July 29, 2022 (FR-6600-N-23). The competition closed October 24, 2022, and the FY22 Indian Community Development Block Grant (ICDBG)—Imminent Threat (IT) Program was awarded based on a first come first serve basis. HUD rated and selected for funding based on selection criteria contained in the NOFO. The FY22 Indian Community Development Block Grant (ICDBG) competition awarded $95,565,820 to 55 recipients to develop viable Indian and Alaska Native communities, including the creation of decent housing, suitable living environments, and economic opportunities primarily for persons with low- and moderate-incomes and The FY22 Indian Community Development Block Grant (ICDBG)—Imminent Threat (IT) competition awarded $2,250,000 to 3 recipients to provide grants to Indian tribes and Alaska Native villages for community development projects.

HUD posted the FY22 Foster Youth to Independence Competitive (FYI Competitive) NOFO on grants.gov June 06, 2022, (FR-6600-N-41). The competition closed on August 09, 2022. HUD rated and selected for funding based on selection criteria contained in the Notice. This competition awarded $12,934,503 to 16 recipients to Housing Choice Voucher (HCV) assistance available to Public Housing Agencies (PHAs) in partnership with Public Child Welfare Agencies (PCWAs).

HUD posted the FY22 Choice Neighborhoods Planning Grants NOFO on grants.gov May 10, 2022, (FR-6600-N-38). The competition closed on July 28, 2022. HUD rated and selected for funding based on selection criteria contained in the NOFO. This competition awarded $4,409,000 to 9 recipients to focuses on the redevelopment of severely distressed public housing and HUD-assisted housing. Planning Grants support the development of comprehensive neighborhood revitalization plans which focused on directing resources to address three core goals: Housing, People and Neighborhood. To achieve these core goals, communities must develop and implement a comprehensive neighborhood revitalization strategy, or Transformation Plan. The Transformation Plan will become the guiding document for the revitalization of the public and/or assisted housing units while simultaneously directing the transformation of the surrounding neighborhood and positive outcomes for families.

HUD posted the FY2022 Housing Opportunities for Persons with HIV/AIDS (HOPWA) Notice on grants.gov June 13, 2022, (CPD-22-08). The competition closed on August 01, 2022. HUD rated and selected for funding based on selection criteria contained in the NOTICE. This competition awarded $780,095 to 1 recipient to provide permanent supportive housing (PSH) as the primary grant activity to HOPWA-eligible clients. For the purposes of the Notice, “permanent housing” means housing in which the eligible person has a continuous legal right to remain in the unit established by a lease or legally binding occupancy agreement.

HUD posted the FY2021 and 2022 Rural Capacity Building for Community Development and Affordable Housing NOFO on grants.gov August 10, 2022, (FR-6600-N-08). The competition closed on October 18, 2022. HUD rated and selected for funding based on selection criteria contained in the NOFO. This competition awarded $10,000,000 to 5 recipients to carry out affordable housing and community development activities in rural areas for the benefit of low- and moderate-income families and persons. The Rural Capacity Building program achieves this by funding National Organizations with expertise in rural housing and rural community development who work directly to build the capacity of eligible beneficiaries.

HUD posted the FY2022 Veterans Housing Rehabilitation and Modification Pilot Program NOFO on grants.gov July 12, 2022, (FR-6600-N-39). The competition closed on August 24, 2022. HUD rated and selected for funding based on selection criteria contained in the NOFO. This competition awarded $5,000,000 to 5 recipients to provide nationwide or statewide programs which primarily serve low-income veterans living with disabilities who need adaptive housing to help them regain or maintain their independence. Through the VHRMP program, grantees will make necessary physical modifications to address the adaptive housing needs of eligible veterans, including wheelchair ramps, widening exterior and interior doors, reconfiguring, and reequipping bathrooms, or adding a bedroom or bathroom for the veteran.

HUD posted FY2022 Supplemental Comprehensive Housing Counseling (CHC) Grant Notice of Funding Opportunity (NOFO) on grants.gov on February 10, 2023 (FR-6600-N-33). The competition closed on March 13, 2023. HUD rated and selected grantees for funding based on selection criteria contained in the NOFO. HUD awarded 12 new grantees under the Supplemental CHC NOFO. FY2022 funding was also provided to 174 grantees under HUD's two-year FY2021 NOFO for the CHC Grant Program. In total, $53,068,044.88 was awarded to 186 recipients. These grants will support quality housing counseling services to help individuals and families to avoid eviction or foreclosure or to make more informed homebuying and rental choices. Included in the award amount is $3 million for housing counseling program grantees that are partnering with Minority Serving Institutions to expand housing services and counseling into underserved communities.

In accordance with section 102(a)(4)(C) of the Department of Housing and Urban Development Reform Act of 1989 (103 Stat. 1987, 42 U.S.C. 3545(a)(4)(C)), the Department is publishing the awardees and the amounts of the awards in Appendices A thru Q of this document.

Dorthera Yorkshire,
Director, Grants Management and Oversight, Office of the Chief Financial Officer.

Appendix A

Authority To Accept Unsolicited Proposals for Research Partnerships (FR-6500-N-USP)

Contact: Carol Gilliam (202) 402-4354

Organization name | Street address or P.O. Box | City | State | Zip code | Amount
Texas A&M Engineering Experiment Station | 400 Harvey Mitchell Parkway South, Suite 300 | College Station | Texas | 77845 | $357,246
Habitat for Humanity International | 285 Peach Tree Center Avenue NE Suite #2700 | Atlanta | Georgia | 30303-1229 | 158,089
National Institute of Building Sciences | 1090 Vermont Avenue NW, Suite 700 | Washington | District of Columbia | 20005-4950 | 431,748
New York University Furman Center | 139 MacDougal Street, 2nd Floor | New York | New York | 10012 | 700,000
Cornell University | 373 Pine Tree Road | Ithaca | New York | 14850-2820 | 350,000
Virginia Polytechnic Institute and State University | North End Center, Suite 4200-300 Turner Street, NW | Blacksburg | Virginia | 24061-0001 | 65,277
The German Marshall Fund | 1744 R Street NW | Washington | District of Columbia | 20009 | 149,891
Total |  |  |  |  | 2,212,251

Appendix B

FY22 Impact Evaluation of the Emergency Rental Assistance (ERA) (FR-6600-N-83)

Contact: Carol Gilliam (202) 402-4354

Organization name | Street address or P.O. Box | City | State | Zip code | Amount
Trustee of the University of Pennsylvania | 3451 Walnut Street, 5th Floor | Philadelphia | PA: Pennsylvania | 19104-6205 | $671,356
The Trustees of Princeton University | P.O. Box 0036-619 Alexander Road—Ste 102 | Princeton | NJ: New Jersey | 08540-6000 | 499,949
Abt Associates | 6130 Executive Blvd | Rockville | MD: Maryland | 20852-4907 | 828,695
Total |  |  |  |  | 2,000,000

Appendix C

FY22 HUDRD CDBG Disaster Recovery Outcomes of Renter Households (FR-6700-N-29A)

Contact: Carol Gilliam (202) 402-4354

Organization name | Street address or P.O. Box | City | State | Zip code | Amount
The Urban Institute | 500 L Enfant Plaza | Washington | DC: District of Columbia | 20024-2774 | $669,607
Horne LLP | 1215 19th Street Northwest | Washington | DC: District of Columbia | 20036-2401 | 700,393
Total |  |  |  |  | $1,370,000

Appendix D

FY22 HUDRD—Exploring the Feasibility of Linking Eviction Records to Administrative Databases for HUD's Housing Choice Voucher Program (FR-6600-N-29E)

Contact: Carol Gilliam (202) 402-4354

Organization name | Street address or P.O. Box | City | State | Zip code | Amount
The Urban Institute | 500 L Enfant Plaza | Washington | DC: District of Columbia | 20024-2774 | $250,000
New York University | 50 West 4th Street | New York | NY: New York | 20012 | 250,000
Total |  |  |  |  | 500,000

Appendix E

FY21 Eviction Protection Grant Program Rounds 1 and 2 (FR-6500-N-79)

Contact: Carol Gilliam (202) 402-4354

Round 1

Organization name | Street address or P.O. Box | City | State | Zip code | Amount
Jacksonville Area Legal Aid, Inc | 126 West Adams Street | Jacksonville | FL: Florida | 32202-3849 | $2,400,000
Legal Aid Society of Northeastern New York | 95 Central Avenue | Albany | NY: New York | 12206-3001 | 2,400,000
Advocates For Basic Legal Equality | 525 Jefferson Ave, #300 | Toledo | OH: Ohio | 43604-1094 | 1,000,000
Connecticut Fair Housing Center | 60 Popieluszko Court | Hartford | CT: Connecticut | 06106-5112 | 2,400,000
Legal Services of Eastern Missouri | 4232 Forest Park Avenue | St. Louis | MO: Missouri | 63108-2811 | 2,400,000
Community Legal Aid, Inc | 405 Main St | Worchester | MA: Massachusetts | 01608-1725 | 2,400,000
Idaho Legal Aid Services | 1447 S Tyrell Lane | Boise | ID: Idaho | 83706-4044 | 1,800,000
Atlanta Volunteer Lawyers Foundation | 235 Peachtree Street, Suite 1750 | Atlanta | GA: Georgia | 30303-1416 | 1,800,000.00
Legal Assistance of Western New York, Inc | 361 South Main Street | Geneva | NY: New York | 14456-2654 | 2,400,000.00
Legal Aid Center of Southern Nevada | 725 E Charleston Boulevard | Las Vegas | NV: Nevada | 89104-1510 | 1,000,000.00
Total |  |  |  |  | 20,000,000.00

Round 2

Organization name | Street address or P.O. Box | City | State | Zip code | Amount
Jacksonville Area Legal Aid, Inc | 126 West Adams Street | Jacksonville | FL: Florida | 32202-3849 | $2,400,000
Legal Aid Society of Northeastern New York | 95 Central Avenue | Albany | New York | 12206-3001 | 2,400,000
Advocates For Basic Legal Equality | 525 Jefferson Ave, #300 | Toledo | OH: Ohio | 43604-1094 | 1,000,000
Connecticut Fair Housing Center | 60 Popieluszko Court | Hartford | Connecticut | 06106-5112 | 2,400,000
Legal Services of Eastern Missouri | 4232 Forest Park Avenue | St. Louis | Missouri | 63108-2811 | 2,400,000
Community Legal Aid, Inc | 405 Main St | Worchester | Massachusetts | 01608-1725 | 2,400,000
Idaho Legal Aid Services | 1447 S Tyrell Lane | Boise | Idaho | 83706-4044 | 1,800,000
Atlanta Volunteer Lawyers Foundation | 235 Peachtree Street, Suite 1750 | Atlanta | Georgia | 30303-1416 | 1,800,000.00
Legal Assistance of Western New York, Inc | 361 South Main Street | Geneva | New York | 14456-2654 | 2,400,000.00
Legal Aid Center of Southern Nevada | 725 E Charleston boulevard | Las Vegas | Nevada | 89104-1510 | 1,000,000.00
Total |  |  |  |  | 20,000,000.00

Appendix F

FY21 HBCU Research Center of Excellence (FR-6400-N-61)

Contact: Carol Gilliam (202) 402-4354

Organization name | Street address or P.O. Box | City | State | Zip code | Amount
Howard University | 2400 Sixth Street NW | Washington | District of Columbia | 20059-0002 | $4,500,000
Texas Southern University | 3100 Cleburne Street | Houston | Texas | 77004-1391 | 1,000,000.00
Total |  |  |  |  | 5,500,000

Appendix G

FY22 HUDRD—HBCU Research Center of Excellence (FR-6600-N-29F)

Contact: Carol Gilliam (202) 402-4354

Organization name | Street address or P.O. Box | City | State | Zip code | Amount
Texas Southern University | 3100 Cleburne Street | Houston | Texas | 77004-4501 | $3,000,000
North Carolina Agricultural and Technical State University | 1601 E Market Street | Greensboro | North Carolina | 274111-0001 | 2,500,000
Total |  |  |  |  | 5,500,000

Appendix H

FY22 HUDRD Wildfire Recovery and Resilience (FR-6600-N-29B)

Contact: Carol Gilliam (202) 402-4354

Organization name | Street address or P.O. Box | City | State | Zip code | Amount
The Regents of the University of California, Merced | 5200 North Lake Road | Merced | California | 95343-5001 | $597,154
Total |  |  |  |  | 597,154.00

Appendix I

FY22 HUDRD—Qualitative Data Collection for Cohort 2 MTW Expansion—Rent Reform Experiment (FR-6700-N-29D)

Contact: Carol Gilliam (202) 402-4354

Organization name | Street address or P.O. Box | City | State | Zip code | Amount
Abt Associates | 6130 Executive Blvd | Rockville | Maryland | 4907 | $998,828
Total |  |  |  |  | 998,828

Appendix J

FY2022 Indian Community Development Block Grant: ICDBG Program (FR-6600-N-23)

Contact: Hilary Atkin, 202-402-3427

Organization name | Address or P.O. Box | City | State | Zip code | Award amount
Central Council of the Tlingit and Haida Indian Tribes | 9097 Glacier Highway | Juneau | AK | 99801-6922 | $2,000,000
Craig Tribal Association | P.O. Box 828 | Craig | AK | 99921 | 2,000,000
Douglas Indian Association | 811 W 12th Street | Juneau | AK | 99801 | 2,000,000
Gulkana Village Council | P.O. Box 254 | Gakona | AK | 99586 | 2,000,000
Kokhanok Village | P.O. Box 1007 | Kokhanok | AK | 99606 | 2,000,000
Petersburg Indian Association | P.O. Box 1418 | Petersburg | AK | 99883 | 2,000,000
Wrangell Cooperative Association | P.O. Box 2331 | Wrangell | AK | 99929 | 1,000,000
Sault Ste Marie Housing Authority | 154 Parkside Drive | Kincheloe | MI | 49788 | 1,397,500
Bois Forte Band of the Minnesota Chippewa Tribe | 5344 Lakeshore Drive | Nett Lake | MN | 55772 | 2,000,000
Mi'kmaq Nation Aroostook Band of Micmacs | #7 Northern Road | Presque Isle | ME | 04769 | 1,950,000
Mississippi Band of Choctaw Indians | P.O. Box 6010, 101 Industrial Rd | Choctaw | MS | 39350 | 688,559
Chickahominy Indian Tribe | 8200 Lott Cary Road | Providence Forge | VA | 23140 | 2,000,000
Chippewa Cree Tribe of the Rocky Boy Reservation | P.O. Box 544 | Box Elder | MT | 59521-0544 | 2,000,000
Fort Belknap Housing Authority | 668 Agency Main Street | Harlem | MT | 59526-9455 | 1,189,005
Fort Peck Housing Authority | P.O. Box 667 | Poplar | MT | 59255-0677 | 2,000,000
Northern Cheyenne Housing Authority | P.O. Box 327 | Lame Deer | MT | 59043-0327 | 2,000,000
Salish & Kootenai Housing Authority | P.O. Box 38 | Pablo | MT | 59855-0038 | 1,280,000
Crow Creek Housing Authority | P.O. Box 19 | Fort Thompson | SD | 57339-0019 | 2,000,000
Oglala Sioux (Lakota) Housing Authority | P.O. Box 603 | Pine Ridge | SD | 57770-0603 | 2,000,000
Utah Paiute Housing Authority | 565 North 100 East | Cedar City | UT | 84721 | 2,000,000
Tohono O'odham—KIKI Association | P.O. Box 790 | Sells | AZ | 85634-0790 | 3,760,000
White Mountain Apache Housing Authority | 50 West Chinatown Street, P.O. Box 1270 | Whiteriver | AZ | 85941-1270 | 4,000,000
Big Valley Tribe of Pomo Indians | 2726 Mission Rancheria Road | Lakeport | CA | 95453 | 1,823,899
Cahto Tribe of the Laytonville Rancheria | P.O. Box 1239 | Laytonville | CA | 95454-1239 | 1,232,831
AMIHA for Cahuilla Band of Indians | P.O. Box 391760 | Anza | CA | 92539 | 875,000
Dry Creek Rancheria Band of Pomo Indians | P.O. Box 607 | Geyserville | CA | 95441-0607 | 2,000,000
AMIHA for La Jolla Band of Mission Indians | 22000 Highway 76 | Pauma Valley | CA | 92061 | 1,125,000
La Posta Band of Mission Indians | 8 Crestwood Road, Box 1 | Boulevard | CA | 91905 | 1,656,709
North Fork Rancheria of Mono Indians | P.O. Box 929 | North Fork | CA | 93643-0929 | 2,000,000
Northern Circle Indian Housing Authority for Mooretown Rancheria | 694 Pinoleville Drive | Ukiah | CA | 95482 | 2,000,000
San Pasqual Band of Mission Indians | P.O. Box 365 | Valley Center | CA | 92082 | 969,241
AMIHA for Santa Rosa Band of Cahuilla Indians | P.O. Box 391820 | Anza | CA | 92539-1820 | 910,000
AMIHA for Santa Ynez Band of Chumash Mission Indians of the Santa Ynez Reservation, California | P.O. Box 517 | Santa Ynez | CA | 93460-0517 | 930,000
Stewarts Point Rancheria—Kashia Band of Pomo | 1420 Guerneville Road, Suite 1 | Santa Rosa | CA | 95403 | 1,400,000
AMIHA for Torres-Martinez Band of Cahuilla Indians | P.O. Box 1160 | Thermal | CA | 92274-1160 | 725,000
Nambe Pueblo Housing Entity | 11 West Gutierrez, Box 3456 | Santa Fe | NM | 87506 | 975,236
Ohkay Owingeh Housing Authority | P.O. Box 1059 | Ohkay Owingeh | NM | 87566-1059 | 2,000,000
Pueblo of Taos | P.O. Box 1846 | Taos | NM | 87571-1846 | 2,000,000
San Felipe Pueblo Housing Authority | P.O. Box 4222 | San Felipe Pueblo | NM | 87001-4222 | 1,965,000
Winnemucca Indian Colony | 433 West Plumb Lane | Reno | NV | 89509 | 1,969,980
Prairie Band of Potawatomi Nation | 16281 Q Road | Mayetta | KS | 66509 | 2,000,000
Cheyenne-Arapaho Tribes | P.O. Box 167, 100 Red Moon Circle | Concho | OK | 73022 | 2,000,000
Chickasaw Nation | P.O. Box 1548, 520 E Arlington | Ada | OK | 74821 | 2,000,000
Choctaw Nation | P.O. Box 1210 | Durant | OK | 74702 | 2,000,000
Citizen Potawatomi Nation | 1601 South Gordon Cooper Drive | Shawnee | OK | 74801 | 2,000,000
Comanche Nation Housing Authority | 1918 East Gore Blvd | Lawton | OK | 73501 | 2,000,000
Kaw Nation Housing Authority | P.O. Box 371 | Newkirk | OK | 74647 | 1,000,000
Modoc Nation | 22 N Eight Tribes Trail | Miami | OK | 74354 | 2,000,000
Ottawa Tribe | P.O. Box 110 | Miami | OK | 74355 | 2,000,000
Peoria Tribe of Indians of Oklahoma Housing Authority | 3606 Sencay Avenue | Miami | OK | 74354 | 1,154,000
Quapaw Nation | P.O. Box 765, 5682 South 630 Road | Quapaw | OK | 74363-0765 | 2,000,000
Seminole Nation Housing Authority | P.O. Box 1493, 101 S Hitchite Avenue | Wewoka | OK | 74884 | 678,064
Burns Paiute Tribe | 100 Pasigo Street | Burns | OR | 97720-2442 | 910,796
Warm Springs Housing Authority | P.O. Box 1167 | Warm Springs | OR | 97761-1167 | 2,000,000
Spokane Tribe of Indians | P.O. Box 100 | Wellpinit | WA | 99040-0100 | 2,000,000
Total |  |  |  |  | 95,565,820

Appendix K

FY2022 Indian Community Development Block Grant: Imminent Threat (FR-6600-N-23)

Contact: Hilary Atkin, 202-402-3427

Organization name | Address or P.O. Box | City | State | Zip code | Award amount
North Fork Rancheria of Mono Indians of California | P.O. Box 929 | North Fork | CA | 93643 | $450,000
Chinik Eskimo Community | P.O. Box 62099 | Golovin | AK | 99762 | 900,000
Newtok Village Council | P.O. Box 5549 | Newtok | AK | 99559 | 900,000
Total |  |  |  |  | 2,250,000

Appendix L

FY22 Foster Youth to Independence Competitive (FYI Competitive) (FR-6600-N-41)

Contact: Michelle Daniels, (202) 402-6051 and Ryan Jones (202) 402-2677

Organization name | Street address or P.O. Box | City | State | Zip code | Award amount
Los Angeles County Development Authority | 700 W Main St | Alhambra | CA | 91801 | $1,197,425.00
County of Sacramento Housing Authority | 801 12th Street | Sacramento | CA | 95814 | 1,188,671.00
Housing Authority of the County of Santa Barbara | 815 W Ocean Avenue | Lompoc | CA | 93436 | 1,188,636.00
Housing Authority of the City of San Jose | 505 West Julian St | San Jose | CA | 95110 | 1,195,651.00
County of Sonoma | 1440 Guerneville Road | Santa Rosa | CA | 95403 | 441,242.00
West Palm Beach Housing Authority | 3700 Georgia Avenue | West Palm Beach | FL | 33405 | 415,788.00
Chicago Housing Authority | 60 E Van Buren St | Chicago | IL | 60605 | 1,064,718.00
Housing Authority Cook County | 175 W Jackson Ste 350 | Chicago | IL | 60604 | 889,884.00
Housing Authority of the Village of Oak Park | 21 South Boulevard | Oak Park | IL | 60302 | 163,310.00
Housing Authority of Kansas City, Missouri | 3822 Summit Street | Kansas City | MO | 64111 | 672,572.00
Housing Authority of Portland | 135 SW Ash Street | Portland | OR | 97204 | 997,110.00
Philadelphia Housing Authority | 2013 Ridge Avenue | Philadelphia | PA | 19121 | 630,977.00
Weber Housing Authority | 237 26th Street, Suite 224 | Ogden | UT | 84401 | 283,875.00
Charlottesville Redev & Housing Authority | 500 S 1st Street | Charlottesville | VA | 22902 | 216,555.00
Seattle Housing Authority | 190 Queen Anne Ave N P.O. Box 19028 | Seattle | WA | 98109 | 1,197,307.00
Housing Authority of King County | 600 Andover Park West | Seattle | WA | 98188 | 1,190,782.00
Total |  |  |  |  | 12,934,503.00

Appendix M

FY 2022 Choice Neighborhoods Planning Grants (FR-6600-N-38)

Contact: Luci Blackburn (202) 402-4190

Organization name | Address or P.O. Box | City | ST | ZIP | Award amount
City of Steubenville, OH | 115 South Third Street | Steubenville | OH | 43952 | $500,000
City of Salem, New Jersey | 17 New Market Street | Salem | NJ | 08079 | 500,000
District of Columbia Housing Authority | 1133 North Capitol Street, NE | Washington | DC | 20002 | 500,000
Flint Housing Commission | 3820 Richfield Rd | Flint | MI | 48506 | 500,000
Fort Wayne Housing Authority | 7315 S Hanna Street | Fort Wayne | IN | 46816 | 500,000
Harrisburg Housing Authority | 351 Chestnut St | Harrisburg | PA | 17101 | 500,000
Housing Authority of the City of Goldsboro | 700 N Jefferson Ave | Goldsboro | NC | 27530 | 500,000
Lorain Metropolitan Housing Authority | 1600 Kansas Ave | Lorain | OH | 44052 | 500,000
Housing Authority of New Orleans | 4100 Touro Street | New Orleans | LA | 70122 | 409,000
Total |  |  |  |  | 4,409,000

Appendix N

FY2022 Housing Opportunities for Persons With AIDS (HOPWA) Notice (CPD-22-08)

Contact: Vanessa Larkin, Vanessa.T.Larkin@hud.gov, 202-402-2633

Organization name | Address or P.O. Box | City | State | Zip | Award amount
Conexio Care, Inc | 590 Naamans Road | Claymont | DE | 19703-2308 | $780,095.00
Total |  |  |  |  | 780,095.00

Appendix O

FY 2021 and 2022 Rural Capacity Building for Community Development and Affordable Housing Grants (FR-6600-N-08)

Contact: Anupama Abhyankar 202-402-3981.

Organization name | Address or P.O. Box | City | State | Zip code | Award amount
Housing Assistance Council | 1025 Vermont Ave. NW | Washington | DC | 20005 | $2,325,000
Minnesota Housing Partnership | 2446 University Avenue West, Suite 106 | Saint Paul | MN | 55114 | 1,700,000
National Association for Latino Community Asset Builders | 5404 Wurzbach Road | San Antonio | TX | 78238 | 1,850,000
Rebuilding Together | 999 N Capitol Street NE | Washington | DC | 20002 | 1,800,000
Rural Community Assistance Corporation | 3120 Freeboard Drive | Sacramento | CA | 95691 | 2,325,000
Total |  |  |  |  | 10,000,000

Appendix P

Veterans Housing Rehabilitation and Modification Pilot Program (FR-6600-N-39)

Contact: Jovette G. Bryant, 877-787-2526.

Organization name | Address or P.O. Box | City | State | Zip code | Award amount
Habitat for Humanity International, Inc | 322 West Lamar Street | Americus | GA | 31709 | $1,000,000
Habitat for Humanity Michigan | 618 South Creyts Road, Suite A | Lansing | MI | 48917 | 1,000,000
Coalition for Home Repair | 113 Heritage Place Drive | Jonesborough | TN | 37659 | 1,000,000
Family and Community Services, Inc | 705 Oakwood Street | Ravenna | OH | 44266 | 1,000,000
Rebuilding Together, Inc | 999 North Capitol Street NE, Suite 701 | Washington | DC | 20002 | 1,000,000
Total |  |  |  |  | 5,000,000

Appendix Q

FY22 Comprehensive Housing Counseling Grant Program (FR-6600-N-33)

Contact: Melissa Noe, 312-913-8468.

Organization name | Address or P.O. Box | City | State | Zip code | Award amount
Rural Alaska Community Action Program, Inc | 731 East 8th Avenue | Anchorage | AK | 99501 | $13,790.00
Community Action Agency of Northwest Alabama, Inc | 745 Thompson St | Florence | AL | 35630-3867 | 41,485.00
Community Action Partnership of North Alabama, Inc | 1909 Central Pkwy. SW | Decatur | AL | 35601-6822 | 29,558.00
Community Service Programs of West Alabama, Inc | 601 Black Bears Way | Tuscaloosa | AL | 35401-4807 | 45,572.00
Housing Authority of The City of Prichard | 200 W Prichard Avenue | Prichard | AL | 36610 | 31,234.00
United Way of Central Alabama, Inc | P.O. Box 320189 | Birmingham | AL | 35222-3250 | 617,662.00
In Affordable Housing Inc | 3224 Shackleford Pass | Littlerock | AR | 72205 | 17,437.00
Northwest Regional Housing Authority | 317 Industrial Park Road | Harrison | AR | 72602 | 22,659.00
Southern Bancorp Community Partners | 400 Hardin Road, Suite 100 | Little Rock | AR | 72211-3501 | 38,529.00
Universal Housing Development Corporation | 301 E 3rd Street | Russellville | AR | 72801-5109 | 30,544.00
Newtown Community Development Corporation | 2106 E Apache Blvd | Tempe | AZ | 85281-7086 | 31,234.00
Balance | 1655 Grant Street | Concord | CA | 94520-2600 | 756,950.00
Credit.Org | 1450 Iowa Ave., Ste 200 | Riverside | CA | 92507-0508 | 356,926.00
Fair Housing Advocates of Northern California | 1314 Lincoln Ave | San Rafael | CA | 94901-2105 | 33,798.00
Fair Housing Council of Riverside County Inc | 4164 Brockton Ave | Riverside | CA | 92501-3400 | 52,722.00
Habitat for Humanity of Greater Los Angeles | 8739 Artesia Blvd | Bellflower | CA | 90706-6330 | 44,737.00
National Association of Real Estate Brokers-Investment Division, Inc | 7677 Oakport Street, Suite 1030 | Oakland | CA | 94621-1929 | 2,247,847.50
Project Sentinel, Inc | 554 Valley Way | Milpitas | CA | 95035-4106 | 97,478.00
Rural Community Assistance Corporation | 3120 Freeboard Drive | West Sacramento | CA | 95691-5039 | 822,447.00
San Francisco Housing Development Corporation | 4439 3rd St | San Francisco | CA | 94124-2103 | 48,089.00
Vacaville, City of | 40 Eldridge Ave., Ste. 2 | Vacaville | CA | 95688-6824 | 20,394.00
Colorado Housing and Finance Authority | 1981 Blake St | Denver | CO | 80202-1229 | 648,871.00
Oweesta Corporation | 2432 Main St., 1st Floor | Longmont | CO | 80501-1101 | 198,270.00
Community Renewal Team, Inc | 555 Windsor St | Hartford | CT | 06120-2901 | 27,587.00
Connecticut Housing Finance Authority | 999 West Street | Rocky Hill | CT | 06067-3011 | 221,565.00
Housing Counseling Services Inc | 2410 17th St. NW, Ste. 100 | Washington | DC | 20009-2724 | 191,081.88
National CAPACD | 1628 16th Street NW | Washington, DC | DC | 20009-3064 | 504,029.00
National Community Reinvestment Coalition, Inc | 740 15th St. NW | Washington | DC | 20005-1019 | 1,168,913.00
National Foundation for Credit Counseling, Inc | 2033 K St. NW | Washington | DC | 20006-1002 | 743,807.00
Neighborhood Reinvestment Corp. DBA Neighborworks America | 999 North Capital Street NE | Washington | DC | 20002-4684 | 3,000,000.00
Unidos US | 1126 16th Street NW, Suite 600 | Washington | DC | 20036-4845 | 2,807,560.00
Adopt a Hurricane Family, Inc | 4700 SW 64th Avenue—Suite C | Davie | FL | 33314-4433 | 10,833.00
Affordable Homeownership Foundation, Inc | 5264 Clayton Ct., Suite 1 | Fort Myers | FL | 33907-2112 | 77,833.00
Community Equity Investments, Inc | 302 North Barcelona St | Pensacola | FL | 32501-4806 | 27,587.00
Community Housing Initiative, Inc | 3033 College Wood Dr | Melbourne | FL | 32934-8324 | 34,882.00
Consolidated Credit Solutions, Inc | 5701 W Sunrise Blvd | Plantation | FL | 33313-6269 | 104,060.00
Credit Card Mgmt Svcs, Inc DBA ReverseMortgageHelper.Org and Debthelper.Com | 1325 N Congress Ave | West Palm Beach | FL | 33401-2005 | 215,335.00
Housing Foundation of America | 2400 N University Dr., Ste. 200 | Pembroke Pines | FL | 33024-3629 | 122,583.00
Jacksonville Area Legal Aid | 126 W Adams St | Jacksonville | FL | 32202-3849 | 34,065.00
Lee County Housing Development Corporation | P.O. Box 2854 | Ft. Myers | FL | 33901-8226 | 32,220.00
Mid-Florida Housing Partnership, Inc | 1834 Mason Avenue | Daytona Beach | FL | 32117-5101 | 24,630.00
Ocala Housing Authority | P.O. Box 2468 | Ocala | FL | 34478 | 63,676.00
Opa-Locka Community Development Corporation, Inc | 490 OPA Locka Blvd | OPA Locka | FL | 33054-3563 | 33,205.00
St. Johns, County of | 200 San Sebastian WV, Ste. 2300 | St Augustine | FL | 32084-8695 | 33,500.00
Step up Suncoast, Inc | 6428 Parkland Dr | Sarasota | FL | 34243-4038 | 25,196.00
The Tallahassee Urban League Incorporated | 923 Old Bainbridge Rd | Tallahassee | FL | 32303-6042 | 74,482.00
Tampa Bay Community Development Corporation | 2139 NE Coachman Rd | Clearwater | FL | 33765-2612 | 37,838.00
Tampa, City of | 306 E Jackson St | Tampa | FL | 33602-5208 | 28,674.00
University of Florida | 1024 McCarty Hall | Gainesville | FL | 32611-0001 | 92,037.00
West Palm Beach Housing Authority | 3700 Georgia Avenue | West Palm Beach | FL | 33405 | 31,080.00
Albany, City of | 230 S Jackson St., Ste. 315 | Albany | GA | 31701-2872 | 22,674.00
Appalachian Housing and Redevelopment Corporation | P.O. Box 1428 | Rome | GA | 30165-2714 | 25,616.00
Georgia Housing and Finance Authority | 60 Executive Park South, NE | Atlanta | GA | 30329-2296 | 1,233,672.00
Operation of Hope, Inc | 191 Peachtree St NE, Suite 3840 | Atlanta | GA | 30303-1740 | 417,550.00
Refugee Family Assistance Program | 5405 Memorial Drive, Suite 101 | Stone Mountain | GA | 30083-3234 | 15,466.00
Legal Aid Society of Hawaii | 924 Bethel Street | Honolulu | HI | 96813-4304 | 27,247.00
Center for Siouxland | 715 Douglas St | Sioux City | IA | 51101-1021 | 33,205.00
Eastern Iowa Regional Housing Corp | 7600 Commerce Park | Dubuque | IA | 52002-9673 | 17,732.00
Home Opportunities Made Easy, Inc | 1618 6th Ave | Des Moines | IA | 50314-3301 | 36,558.00
Horizons, A Family Service Alliance | 819 5th St SE | Cedar Rapids | IA | 52401-2128 | 39,809.00
Muscatine, City of | 215 Sycamore St | Muscatine | IA | 52761-3839 | 17,879.00
Idaho Housing and Finance Association | P.O. Box 7899 | Boise | ID | 83702-7675 | 457,323.00
Consumer Credit Counseling Service of Northern Illinois, Inc | 13707 W Jackson St | Woodstock | IL | 60098-3188 | 55,194.00
Housing Action Illinois | 67 E Madison Street, Suite 1603 | Chicago | IL | 60603-3014 | 1,508,076.00
Macoupin County Housing Authority | P.O. Box 226 | Carlinville | IL | 62626-1003 | 22,659.00
Smart Women/Smart Money Educational Foundation | 3510 W Franklin Blvd | Chicago | IL | 60624-1316 | 28,676.00
Will County Center for Community Concerns, Inc | 2455 Glenwood Ave | Joliet | IL | 60435-5464 | 31,234.00
Affordable Housing Corp | 812 S Washington St | Marion | IN | 46953-1967 | 46,127.00
Bloomington, City of | P.O. Box 100 | Bloomington | IN | 47404-3729 | 15,000.00
Hoosier Uplands Economic Development Corporation | 500 W Main St | Mitchell | IN | 47446-1411 | 30,249.00
Lincoln Hills Development Corporation | P.O. Box 336 | Tell City | IN | 47586-2207 | 21,000.00
Campbellsville Housing & Redevelopment Authority | 400 Ingram Ave | Campbellsville | KY | 42718-1627 | 16,746.00
Housing Assistance and Development Services, Inc | P.O. Box 9637 | Bowling Green | KY | 42101-3403 | 28,843.00
KCEOC Community Action Partnership, Inc | P.O. Box 490 | Barbourville | KY | 40734-6582 | 21,674.00
Kentucky Housing Corporation | 1231 Louisville Rd | Frankfort | KY | 40601-6156 | 178,171.00
Live Dream Development Inc | 247 Double Springs Rd | Bowling Green | KY | 42101-5160 | 7,039.00
Louisiana Housing Corporation | 2415 Quail Drive | Baton Rouge | LA | 70808-0120 | 467,281.00
Catholic Social Services F River | 1600 Bay St | Fall River | MA | 02724-1216 | 33,205.00
Citizens' Housing and Planning Association, Inc | One Beacon Street 5th Floor | Boston | MA | 02108-2305 | 683,898.00
Neighborhood Stabilization Corporation (NACA Counseling Subsidiary) | 225 Centre Street, Suite 100 | Boston | MA | 02119-1298 | 3,442,516.50
PRO Home, Inc | 40 Summer St | Taunton | MA | 02780-3420 | 21,379.00
Springfield Partners for Community Action, Inc | 721 State Street, 2nd Floor | Springfield | MA | 01109-4109 | 17,437.00
The Housing Partnership Network | 1 Washington Mall, 12th Fl | Boston | MA | 02108-2603 | 723,002.00
Allegany County Human Resources Development Commission, Inc | 125 Virginia Avenue | Cumberland | MD | 21502-3952 | 16,746.00
Arundel Community Development Services, Inc | 2666 Riva Road | Annapolis | MD | 21401-7345 | 34,292.00
Centro De Apoyo Familiar—Center for Assistance Familites | 6801 Kenilworth Ave | Riverdale | MD | 20737-1331 | 133,161.00
Comprehensive Housing Assistance, Inc | 5809 Park Heights Ave | Baltimore | MD | 21215-3931 | 25,321.00
Consumer Credit Counseling Service of Maryland and Delaware, Inc. (CCCSMD) | 6315 Hillside Ct | Columbia | MD | 21046-3228 | 520,303.00
Diversified Housing Development Inc | 8025 Liberty Rd | Windsor Mill | MD | 21244-2966 | 34,191.00
Garwyn Oaks/Northwest Housing Resource Center, Inc | 2300 Garrison Blvd | Baltimore | MD | 21216-2335 | 12,804.00
Hagerstown Neighborhood Development Partnership, Inc | 21 E Franklin Street | Hagerstown | MD | 21740 | 35,176.00
Harford, County of | 15 S Main St | Bel Air | MD | 21014-8723 | 51,024.00
Homefree—USA | 8401 Corporate Dr | Landover | MD | 20785-2224 | 2,543,252.50
Housing Initiative Partnership, Inc | 6525 Belcrest Road | Hyattsville | MD | 20782-2003 | 70,813.00
Shore Up, Inc | 520 Snow Hill Rd | Salisbury | MD | 21804-6031 | 61,799.00
United Communities Against Poverty | 1400 Dogwood Lane | Capitol Heights | MD | 20743-1018 | 15,466.00
Grand Rapids Urban League | 745 Eastern Ave. SE | Grand Rapids | MI | 49503-5544 | 45,000.00
Greenpath, Inc | 36500 Corporate Dr | Farmington Hills | MI | 48331-3553 | 2,061,270.00
Housing Services Mid-Michigan | 319 S Cochran Ave | Charlotte | MI | 48813-1555 | 43,751.00
Michigan State Housing Development Authority | 735 E Michigan Avenue | Lansing | MI | 48909 | 1,150,000.00
Northwest Michigan Community Action Agency, Inc | 3963 3 Mile Rd. N | Traverse City | MI | 49686-9164 | 45,280.00
Oakland Livingston Human Service Agency | 196 Cesar E Chavez Ave | Pontiac | MI | 48342-1094 | 31,382.00
Oakland, County of | 250 Elizabeth Lake Rd., Ste. 1900 | Pontiac | MI | 48341-1035 | 51,149.00
Catholic Charities of The Diocese of Saint Cloud | 157 Roosevelt Rd., Ste. 200 | Saint Cloud | MN | 56301-5485 | 52,134.00
Minnesota Homeownership Center | 1000 Payne Avenue | Saint Paul | MN | 55130-3986 | 695,273.00
Southern Minnesota Regional Legal Services, Inc | 55 5th St. E, Ste. 400 | Saint Paul | MN | 55101-1118 | 45,000.00
Community Services League of Jackson County | 404 N Noland Rd | Independence | MO | 64050-3057 | 21,379.00
Housing Options Provided for the Elderly (HOPE) | 7300 Dartmouth Ave., Ste. 100 | University City | MO | 63130-2904 | 195,625.00
Housing Education and Economic Development Inc | P.O. Box 11853 | Jackson | MS | 39213-6360 | 40,832.00
Mississippi Home Corporation | 735 Riverside Drive | Jackson | MS | 39202-1166 | 327,890.00
Montana Homeownership Network DBA Neighborworks Montana | 509 1st Ave. S | Great Falls | MT | 59401-3604 | 625,423.00
Chatham County Housing Authority | P.O. Box 571 | Siler City | NC | 27344-6443 | 17,732.00
Housing Authority of the City of Greensboro | 450 N Church St | Greensboro | NC | 27401-2001 | 89,882.00
Housing Authority of the City of High Point | 500 E Russell Ave | High Point | NC | 27260-6746 | 23,498.00
North Carolina Housing Coalition | 3608 University Blvd., #203 | Durham | NC | 27707-6260 | 1,212,725.00
Statesville Housing Authority Inc | 110 W Allison St | Statesville | NC | 28677-6616 | 35,176.00
Telamon Corporation | 5560 Munford Road | Raleigh | NC | 27612-2635 | 705,489.00
Western Piedmont Council of Governments | P.O. Box 9026 | Hickory | NC | 28601-5766 | 44,147.00
North Dakota Housing Finance Agency | P.O. Box 1535 | Bismarck | ND | 58504-6803 | 77,831.00
Blue Valley Community Action Inc | 620 5th St | Fairbury | NE | 68352-2624 | 35,029.00
Credit Advisors' Foundation | 1818 S 72nd Street | Omaha | NE | 68124-1704 | 99,270.00
Family Housing Advisory Services, Inc | 2401 Lake St | Omaha | NE | 68111-3872 | 54,398.00
High Plains Community Development Corporation, Inc | 803 E 3rd St | Chadron | NE | 69337-2856 | 54,943.00
New Hampshire Housing Finance Authority | 32 Constitution Dr | Bedford | NH | 03110-6062 | 218,868.00
Consumer Credit and Budget Counseling, Dba National Foundation for Debt Management | 299 US Rte. 9 S | Marmora | NJ | 8223-1210 | 154,999.00
Garden State Consumer Credit Counseling, Inc. D/B/A/Navicore Solutions | 200 US Highway 9 | Manalapan | NJ | 07726-3072 | 707,839.00
Housing & Community Development Network of New Jersey | 145 West Hanover Street | Trenton | NJ | 08618-4823 | 367,957.00
New Jersey Housing and Mortgage Finance Agency | P.O. Box 18550 | Trenton | NJ | 08611-1811 | 300,000.00
North Hudson Community Action Corporation | 800—31st Street | Union City | NJ | 07087-2428 | 16,746.00
Northern New Jersey, Fair Housing Council of | 131 Main St | Hackensack | NJ | 07601-7140 | 42,766.00
Ocean Community Economic Action Now Inc | 40 Washington Street | Toms River | NJ | 08753-7669 | 25,000.00
Paterson Housing Authority | 60 Van Houten St | Paterson | NJ | 07505-1028 | 17,732.00
Senior Citizens Community Services, Inc | 537 W Nicholson Rd | Audubon | NJ | 08106-1970 | 38,236.00
Nevada Partners, Inc | 690 W Lake Mead Blvd | North Las Vegas | NV | 89030-4017 | 40,795.00
Allegany County Community Opportunities and Rural Development, Inc | 84 Schuyler St | Belmont | NY | 14813-1051 | 36,014.00
Greater Sheepshead Bay Development Corporation | 1851 Marine Pkwy | Brooklyn | NY | 11234-4453 | 5,407.00
National Urban League | 80 Pine St | New York | NY | 10005-1720 | 1,635,579.50
Neighborhood Housing Services Inc | 570 South Ave | Rochester | NY | 14620-1337 | 39,809.00
New York Mortgage Coalition | 14 Wall Street, 20th Floor | New York | NY | 10005 | 472,720.00
New York State Housing Finance Agency | 38-40 State Street | Albany | NY | 12207-2837 | 1,168,070.00
Niagara Falls Neighborhood Housing Services Inc | 479 16th St | Niagara Falls | NY | 14303-1636 | 37,838.00
Pathstone Corporation | 400 East Avenue | Rochester | NY | 14607-1910 | 296,025.00
West Side Neighborhood Housing Services Inc | 359 Connecticut Street | Buffalo | NY | 14213-2547 | 31,925.00
Community Housing Solutions | 12114 Larchmere Blvd | Cleveland | OH | 44120-1139 | 51,046.00
County Corp | 130 W 2nd St., Ste. 1420 | Dayton | OH | 45402-1502 | 39,809.00
Fair Housing Resource Center | 1100 Mentor Ave | Painesville | OH | 44077-1832 | 59,326.00
Great Lakes Community Action Partnership | P.O. Box 590 | Fremont | OH | 43420-3021 | 22,511.00
Working in Neighborhoods | 1814 Dreman Ave | Cincinnati | OH | 45223-2319 | 30,249.00
Youngstown Neighborhood Development Corporation | 820 Canfield Rd | Youngstown | OH | 44511-2345 | 34,191.00
Community Action Agency of Oklahoma City, and Oklahoma/Canadian Counties, Inc | 319 SW, 25th St | Oklahoma City | OK | 73109-5921 | 19,703.00
Community Development Support Association, Inc | 114 S Independence St | Enid | OK | 73701 | 32,911.00
Housing Authority of The Choctaw Nation of Oklahoma | 207 Jim Monroe Rd | Hugo | OK | 74743-5202 | 52,722.00
Housing Partners of Tulsa, Inc | 415 E Independence Street | Tulsa | OK | 74106-5727 | 36,833.00
Quickcert Inc | 7122 S Sheridan Rd., Ste. 2 | Tulsa | OK | 74133-2775 | 110,852.00
Community Connection of Northeast Oregon Inc | 2802 Adams Ave | La Grande | OR | 97850-5267 | 33,205.00
Open Door Counseling Center | 34420 SW Tualatin Valley Hwy | Hillsboro | OR | 97123-5470 | 68,717.00
Hispanic Association of Contractors and Enterprises | 167 W Allegheny Ave | Philadelphia | PA | 19140-5846 | 73,582.00
Intercommunity Action, Inc | 403 Rector St | Philadelphia | PA | 19128-3522 | 16,452.00
Mon Valley Initiative | 303-305 E 8th Avenue | Homestead | PA | 15120-1517 | 703,144.00
Nueva Esperanza, Inc | 4261 N 5th St | Philadelphia | PA | 19140-2615 | 477,780.00
Pennsylvania Housing Finance Agency | 211 North Front Street | Harrisburg | PA | 17101-1406 | 2,385,024.00
Providence Housing Authority | 100 Broad St | Providence | RI | 02909-4306 | 62,973.00
Charleston Trident Urban League | 1064 Gardner Rd., Ste. 307 | Charleston | SC | 29407-5746 | 46,391.00
Greenville County Human Relations Commission | 301 University Rd | Greenville | SC | 29601-3636 | 47,376.00
Southeastern Housing and Community Development | 986 Doyle Street | Orangeburg | SC | 29115-6087 | 33,896.00
South Dakota Housing Development Authority | P.O. Box 1237 | Pierre | SD | 57501-5876 | 271,411.00
Clinchpowell Resource Conservation and Development Council | P.O. Box 379 | Rutledge | TN | 37861-3003 | 36,853.00
Tennessee Housing Development Agency | 502 Deaderick Street | Nashville | TN | 37243-0200 | 183,571.00
West Tennessee Legal Services, Incorporated | P.O. Box 2066 | Jackson | TN | 38301-6114 | 627,602.00
Austin Habitat for Humanity, Inc | 500 W Ben White Blvd | Austin | TX | 78704-7030 | 31,234.00
Easter Seals of Greater Houston, Inc | 4888 Loop Central Dr | Houston | TX | 77081-2227 | 33,601.00
Money Management International Inc | 12603 Southwest Fwy., Suite 450 MB #8 | Stafford | TX | 77477-3842 | 1,629,939.00
Waco Community Development Corporation | 1624 Colcord Ave | Waco | TX | 76707-2246 | 33,205.00
Community Action Services and Food Bank, Inc | 815 S Freedom Blvd., Suite 100 | Provo | UT | 84601 | 38,133.00
Utah State University | 6435 Old Main Hill | Logan | UT | 84322-0001 | 47,817.00
Catholic Charities USA | 2050 Ballenger Avenue | Alexandria | VA | 22314-6847 | 868,693.00
Virginia Housing (VHDA) | 601 S Belvidere Street | Richmond | VA | 23220-6504 | 1,370,841.00
Virgin Islands Housing Finance Authority | 3202 Demarara Plaza | St. Thomas | VI | 00802-6447 | 66,778.00
Bennington-Rutland Opportunity Council Inc | 45 Union St | Rutland | VT | 05701-3956 | 58,635.00
Washington State Housing Finance Commission | 1000 2nd Avenue, Suite 2700 | Seattle | WA | 98104-3601 | 200,000.00
Acts Housing | 2414 West Vliet Street | Milwaukee | WI | 53205-1830 | 81,799.00
Movin' Out, Inc | 902 Royster Oaks Drive, Ste. 105 | Madison | WI | 53714-9101 | 43,751.00
United Community Center, Inc | 1028 S 9th Street | Milwaukee | WI | 53204-1335 | 24,336.00
Housing Authority of Mingo County | 5026 Helena Avenue | Delbarton | WV | 25670-1308 | 46,827.00
Southern Appalachian Labor School Foundation, Inc | 1 Church Hill Road | Kincaid | WV | 25119-0127 | 16,452.00
Wyoming Housing Network, Inc | 2345 E 2nd St | Casper | WY | 82609-2048 | 67,062.00
Total |  |  |  |  | 53,080,241.88

[FR Doc. 2024-03409 Filed 2-16-24; 8:45 am]

BILLING CODE 4210-67-P